DEPARTMENT OF TRANSPORTATION

Federal Motor Carrier Safety Administration

[Docket No. FMCSA-2006-24624]

Agency Information Collection Activities; Request for Comment; Renewal of an Existing Information Collection: Annual and Quarterly Reports of Class I Motor Carriers of Passengers (Formerly OMB 2139-0003)

AGENCY: Federal Motor Carrier Safety Administration (FMCSA), DOT.

ACTION: Notice and request for comments.

SUMMARY: This notice announces that the Federal Motor Carrier Safety Administration (FMCSA) intends to submit to the Office of Management and Budget (OMB) its request to renew a currently-approved information collection for Class I Motor Carriers of Passengers, Form MP-1, Annual and Quarterly Reports. This information collection is necessary to ensure that motor carriers comply with financial and operating statistics requirements at 49 CFR part 1420. This notice is required by the Paperwork Reduction Act of 1995 (PRA).

DATES: Comments must be submitted on or before June 9, 2006.

ADDRESSES: All comments should reference Docket No. FMCSA-2006-24624. You may mail or hand deliver comments to the U.S. Department of Transportation, Dockets Management Facility, Room PL-401, 400 Seventh Street, SW., Washington, DC 20590; telefax comments to 202/493-2251; or submit electronically at http://dms.dot.gov.

You may examine and copy all comments received at the above address between 9 a.m. and 5 p.m., Monday through Friday, except Federal holidays. If you desire your comment to be acknowledged, you must include a self-addressed stamped envelope or postcard or, if you submit your comments electronically, you may print the acknowledgment.

FOR FURTHER INFORMATION CONTACT: Ms. Toni Proctor, Federal Motor Carrier Safety Administration Office of Research and Analysis, Washington, DC 20590, phone (202) 366-2998, FAX (202) 366-3518, e-mail Toni.Proctor@fmcsa.dot.gov, Office hours are from 8 a.m. to 4 p.m., ET, Monday through Friday, except Federal holidays.

SUPPLEMENTARY INFORMATION: For-hire Class I motor carriers of passengers (including interstate and intrastate) ¹ are required to file Motor Carrier Quarterly and Annual Reports (Form MP-1) that provide financial and operating data (see 49 U.S.C. 14123). The agency uses this information to assess the health of the industry and identify industry changes that may affect national transportation policy. The data also show company financial stability and traffic patterns. Motor carriers of passengers required to comply with the regulations are classified on the basis of their annual gross carrier operating revenues. Under the F&OS program the FMCSA collects balance sheet and income statement data along with information on tonnage, mileage, employees, transportation equipment, and other related data.

¹ For purposes of the Financial & Operating Statistics (F&OS) program, passenger carriers are classified into the following two groups: (1) Class I carriers are those having average annual gross transportation operating revenues (including interstate and intrastate) of $5 million or more from passenger motor carrier operations after applying the revenue deflator formula in the Note of section 1420.3; (2) Class II passenger carriers are those having average annual gross transportation operating revenues (including interstate and intrastate) of less than $5 million from passenger motor carrier operations after applying the revenue deflator formula as shown in Note A of section 1420.3. Only Class I carriers of passengers are required to file Annual and Quarterly Report Form MP-1, but Class II passenger carriers must notify the agency when there is a change in their classification or their revenues exceed the Class II limit.

The data and information collected is made publicly available as prescribed in 49 CFR part 1420. The regulations were formerly administered by the Interstate Commerce Commission (ICC), the Interstate Commerce Act, 49 U.S.C. 11145, 49 U.S.C. 11343(d)(1) and the Bus Regulatory Act of 1982 and later transferred to the U.S. Department of Transportation on January 1, 1996, by the ICC Termination Act of 1995 (ICCTA) (Pub. L. 104-88, 109 Stat.803 (Dec. 29, 1995)), now codified at 49 U.S.C. 14123. The Secretary of Transportation (Secretary) transferred the authority to administer the F&OS program to the former Bureau of Transportation Statistics on September 30, 1998 (63 FR 52192). Pursuant to this authority, the BTS, now part of the Research and Innovative Technology Administration (RITA), became the responsible DOT modal administration for implementing the F&OS program and requirements at 49 CFR part 1420. On September 29, 2004, the Secretary transferred the responsibility for the F&OS program from BTS, to FMCSA (69 FR 51009). FMCSA plans to publish a final rule in the future to transfer and re-designate the F&OS program reporting requirements at part 1420, title 49 of the CFR, from BTS (now RITA) to FMCSA.

Type of Information Collection Request: Renewal of an existing information collection.

Title of Information Collection: Annual and Quarterly Report of Class I Motor Carriers. of Passengers (formerly OMB 2139-0004).

OMB Control Number: 2126-0031.

Respondents: Class I Motor Carriers of Passengers.

Frequency: Quarterly and annually.

Estimated Annual Number of Respondents: 26.

Estimated Annual Number of Responses: 130.

Estimated Average Burden per Response: 1.5 hours per response.

Estimated Total Annual Burden Hours: 195 hours [130 responses × 1.5 hours per response = 195 hours].

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The agency will summarize and/or include your comments in the request for OMB's clearance of this information collection.

Issued on: April 4, 2006.
Warren E. Hoemann,
Deputy Administrator.

[FR Doc. E6-5209 Filed 4-7-06; 8:45 am]

BILLING CODE 4910-EX-P